DEPARTMENT OF ENERGY

Federal Energy Regulatory Commission

Combined Notice of Filings #2

Take notice that the Commission received the following electric rate filings:

Docket Numbers: ER11-2547-007.

Applicants: New York Independent System Operator, Inc.

Description: NYISO Compliance Filing re: Neptune Proxy Bus 15 Minute Variable Scheduling to be effective 10/30/2012.

Filed Date: 10/12/12.

Accession Number: 20121012-5093.

Comments Due: 5 p.m. ET 11/2/12.

Docket Numbers: ER11-3017-001.

Applicants: Hudson Transmission Partners, LLC.

Description: Notice of Non Material Change in Status of Hudson Transmission Partners, LLC.

Filed Date: 10/12/12.

Accession Number: 20121012-5090.

Comments Due: 5 p.m. ET 11/2/12.

Docket Numbers: ER11-4267-001; ER11-4270-001; ER11-4269-001; ER11-4268-001; ER11-113-001; ER10-2682-001.

Applicants: Algonquin Northern Maine Gen Co., Algonquin Tinker Gen Co., Algonquin Energy Services Inc., Granite State Electric Company, Sandy Ridge Wind, LLC, Algonquin Windsor Locks LLC.

Description: Algonquin Energy Services Inc., et al. submits second supplement to Notice of Change in Status.

Filed Date: 10/12/12.

Accession Number: 20121012-5076.

Comments Due: 5 p.m. ET 11/2/12.

Docket Numbers: ER13-112-000.

Applicants: Midwest Independent Transmission System Operator, Inc.

Description: SA 2488 Minnkota Power-GRE FCA to be effective 10/13/2012.

Filed Date: 10/12/12.

Accession Number: 20121012-5040.

Comments Due: 5 p.m. ET 11/2/12.

Docket Numbers: ER13-113-000.

Applicants: Sunbury Energy, LLC.

Description: Baseline for MBR Tariff to be effective 10/12/2012.

Filed Date: 10/12/12.

Accession Number: 20121012-5057.

Comments Due: 5 p.m. ET 11/2/12.

Docket Numbers: ER13-114-000.

Applicants: Wisconsin Public Service Corporation.

Description: Notice of Cancellation of Service Agreement to be effective 10/1/2012.

Filed Date: 10/12/12.

Accession Number: 20121012-5062.

Comments Due: 5 p.m. ET 11/2/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 12, 2012.
Nathaniel J. Davis, Sr.,
Deputy Secretary.

[FR Doc. 2012-25886 Filed 10-19-12; 8:45 am]

BILLING CODE 6717-01-P